DEPARTMENT OF THE INTERIOR

Bureau of Land Management

[OR-110-08-1610-DR]

Notice of Availability of the Record of Decision for the Cascade-Siskiyou National Monument Resource Management Plan/Environmental Impact Statement

AGENCY: Bureau of Land Management, Interior.

ACTION: Notice of Availability of Record of Decision (ROD).

SUMMARY: In accordance with the National Environmental Policy Act, the Federal Land Policy and Management Act, and Bureau of Land Management (BLM) policies, the BLM announces the availability of the ROD for the Cascade-Siskiyou National Monument Resource Management Plan (RMP) located in Jackson County in southwestern Oregon. The ROD serves as a final decision for the land use plan decisions described in the approved RMP and becomes effective on the date the ROD is signed.

ADDRESSES: Copies of the Cascade-Siskiyou National Monument ROD/RMP are available upon request from the BLM Medford District Office, 3040 Biddle Road, Medford, OR 97504 or by calling (541) 618-2245. It may also be available on the Internet at: http://www.or.blm.gov/Medford/CSNM.

FOR FURTHER INFORMATION CONTACT: Howard Hunter, Assistant Monument Manager, BLM, Medford District Office, 3040 Biddle Road, Medford, OR 97504 or at (541) 618-2256.

SUPPLEMENTARY INFORMATION: The Cascade-Siskiyou National Monument ROD/RMP was developed with broad public participation through a six-year collaborative planning process. This ROD/RMP addresses management of approximately 52,947 acres of public land. The Cascade-Siskiyou National Monument ROD/RMP is designed to meet the primary goal of protecting, maintaining, restoring or enhancing the long-term ecological integrity of the Cascade-Siskiyou National Monument. The management actions detailed in the RMP address vegetation management, transportation and access, livestock grazing, recreation, visitor use, facilities, and rights-of-way. No further administrative remedies are available at this time for land use decisions made in the RMP.

With one exception, the approved Cascade-Siskiyou National Monument RMP is very similar to the proposed management in Cascade-Siskiyou National Monument Proposed RMP/Final EIS (FEIS) published in February 2005. The BLM received 12 protests on the Proposed RMP/FEIS. In response to one of the protests, a decision was made to allow flexibility to lift the peregrine falcon seasonal restrictions on the south and east sides of Pilot Rock, from February 1 to July 30 each year, if it is determined by the BLM that peregrine falcons are not nesting, or that their young have been confirmed to have fledged and moved a sufficient distance from the rock face to avoid disturbance by climbers. Other minor modifications to the proposed plan corrected errors that were noted during review of the Proposed RMP/FEIS and provide further clarification for some of the decisions.

Edward W. Shepard,
State Director.

[FR Doc. E8-19268 Filed 8-20-08; 8:45 am]

BILLING CODE 4310-33-P